DEPARTMENT OF AGRICULTURE

Rural Housing Service

[Docket No. RHS-23-SFH-0004]

Notice of Funding Availability for the Native Community Development Financial Institution (NCDFI) Relending Demonstration Program FY 2023

AGENCY: Rural Housing Service, USDA.

ACTION: Notice of funding availability.

SUMMARY: The Rural Housing Service (RHS or the Agency), an agency within the Rural Development mission area (RD) of the United States Department of Agriculture (USDA), announces the availability of funding for applications under its Native Community Development Financial Institution (NCDFI) Relending Demonstration Program for fiscal year (FY) 2023. The purpose of this notice is to announce the opening and closing dates for receipt of applications for the NCDFI Relending Demonstration Program from eligible applicants, as well as submission requirements. These loans will be made to qualified NCDFIs to relend funds to low- and very low-income ultimate recipients to acquire, build, rehabilitate, improve, or relocate dwellings on Tribal Land in rural areas. This program has $7,502,000 available for FY 23. Applicants are responsible for any expenses incurred in developing their applications.

DATES: Completed applications must be submitted using one of the following methods:

• Paper submissions: The Agency must receive a paper application by 4:30 p.m. local time, July 17, 2023. Application can be mailed to: USDA Rural Development, Washington State Office, Attention: Andria Hively, 1835 Black Lake Blvd. SW, Olympia, WA 98512.

• Electronic submissions: Electronic applications must be submitted via email to brian.hudson@usda.gov by 11:59 p.m. Eastern Time (ET) on July 17, 2023.

The Agency will not solicit or consider scoring or eligibility information that is submitted after the application deadline. The application dates and times are firm. The Agency will not consider any application received after the deadline. The Agency reserves the right to contact applicants to seek clarification information on materials contained in the submitted application.

ADDRESSES: Applicants wanting to apply for assistance may download the application documents and requirements as stated in this Notice from the NCDFI Relending Demonstration website at: https://www.rd.usda.gov/programs-services/single-family-housing-programs/native-community-development-financial-institution-relending-demonstration-program. Applicants may also request paper application packages from the Rural Development National Office by emailing brian.hudson@usda.gov.

FOR FURTHER INFORMATION CONTACT: Brian Hudson, Finance and Loan Analyst, Single Family Housing Direct Division, Special Programs and New Initiatives Branch at (608) 697-7725 (voice) (this is not a toll-free number) or brian.hudson@usda.gov.

SUPPLEMENTARY INFORMATION:

Overview

Federal Agency Name: Rural Housing Service (RHS).

Funding Opportunity Title: Native Community Development Financial Institution (NCDFI) Relending Demonstration Program.

Announcement Type: Notice of Funding Availability (NOFA).

Assistance Listing (AL) Numbers: 10.410.

Dates: Completed applications and supporting materials must be sent via mail or delivered to: USDA Rural Development, Washington State Office, Attention: Andria Hively, 1835 Black Lake Blvd. SW, Olympia, WA 98512 by 4:30 p.m. Pacific Time (PT) on July 17, 2023, or sent via email to brian.hudson@usda.gov by 11:59 p.m. Eastern Time (ET) on July 17, 2023. Late or incomplete applications will not be accepted.

Rural Development Key Priorities: The Agency encourages applicants to consider projects that will advance the following key priorities (more details available at https://www.rd.usda.gov/priority-points):

• Reducing climate pollution and increasing resilience to the impacts of climate change through economic support to rural communities;

• Ensuring all rural residents have equitable access to RD programs and benefits from RD funded projects; and

• Assisting rural communities recover economically through more and better market opportunities and through improved infrastructure.

For further information, visit https://www.rd.usda.gov/priority-points.

A. Program Description

1. Purpose of the Program. The purpose of the NCDFI Relending Demonstration Program is to increase homeownership opportunities for Native American Tribes, Alaska Native Communities, and Native Hawaiian Communities in rural areas. The program will provide capital to NCDFIs; loans made to NCDFIs will be relent to the ultimate recipients (low- and very low-income people who will live on Tribal Lands and are in need of affordable, modest single-family homes).

2. Statutory Authority. Funding is authorized pursuant to the Consolidated Appropriation Act, 2023, Public Law 117-328, and Section 502 of the Housing Act of 1949, 42 U.S.C. 1472, implemented under 7 CFR part 3550.

3. Definitions. In addition to the terms defined below, the definitions and terms applicable to the loan process for ultimate recipients can be found at 7 CFR 3550.10):

a. Native Community Development Financial Institution (NCDFI). An entity that has been certified as a Native Community Development Financial Institution (NCDFI) by the Secretary of the Treasury; that is not less than 50 percent owned or controlled by members of Native American Tribes, Alaska Native Communities, or Native Hawaiian Communities; and for which not less than 50 percent of the activities of the entity serve Indian Tribes, Alaska Native communities, or Native Hawaiian communities;

b. Native Hawaiian. The term `Native Hawaiian' has the meaning given the term in the Native American Housing Assistance and Self-Determination Act of 1996 (25 U.S.C. 4221);

c. Principals of NCDFI. Members, officers, directors, and other individuals or entities directly involved in the operation and management (including setting policy) of an NCDFI.

d. Tribal Land. Tribal Land includes any of the following:

(i) any land located within the boundaries of—

(I) an Indian reservation, pueblo, or rancheria; or

(II) a former reservation within Oklahoma;

(ii) any land not located within the boundaries of an Indian reservation, pueblo, or rancheria, the title to which is held—

(I) in trust by the United States for the benefit of an Indian Tribe or an individual Indian;

(II) by an Indian Tribe or an individual Indian, subject to restriction against alienation under laws of the United States; or

(III) by a dependent Indian community;

(iii) any land located within a region established pursuant to section 7(a) of the Alaska Native Claims Settlement Act (43 U.S.C. 1606(a));

(iv) Hawaiian Homelands, as defined in the Native American Housing Assistance and Self-Determination Act of 1996 (25 U.S.C. 4221); or

(v) those areas or communities designated by the Assistant Secretary of Indian Affairs of the Department of the Interior that are near, adjacent, or contiguous to reservations where financial assistance and social service programs are provided to Indians because of their status as Indians.

e. Ultimate recipient. An individual that receives a mortgage loan from a NCDFI Relending Demonstration Program fund.

4. Application Awards. The Agency will review, evaluate and score applications received in response to this notice based on the provisions found in this notice. Awards under the NCDFI Relending Demonstration Program will be made on a competitive basis using specific selection criteria contained in this notice. The Agency advises all interested parties that all expenses incurred in applying for this Notice are the applicant's sole risk.

B. Federal Award Information

Type of Award: Loan.

Fiscal Year Funds: FY 2023.

Available Funds: $7,502,000.

Award Amounts: A minimum loan request of $800,000 is required. There is no maximum loan limit. Applications with requests larger than $1 million will be evaluated and awarded, based on program demand.

Anticipated Award Date: September 15, 2023.

Performance Period: No loan shall be extended for a period exceeding 33 years. The interest rate will be one percent. Interest and principal payments will be scheduled annually. The initial principal and interest payment will be deferred by the Agency for 3 years. Loan funds must be disbursed and delivered to the ultimate recipients within three years from the date of loan closing.

Renewal or Supplemental Awards: None.

Type of Assistance Instrument: Direct loan.

Approximate Number of Awards: The Agency anticipates making five to seven awards.

C. Eligibility Information

1. Eligible Applicants. Eligible entities for these competitively awarded loans include certified NCDFI's as determined by the Community Development Financial Institutions Fund of the U.S. Department of the Treasury. Any delinquent debt to the Federal Government by the NCDFI or any principal of the NCDFI shall cause the NCDFI to be ineligible to receive any NCDFI Relending Demonstration Program loan funds. Agency loan funds may not be used to satisfy the debt.

Debarment and suspension information is required in accordance with 2 CFR part 180 (OMB's Guidelines to Agencies on Governmentwide Debarment and Suspension (Nonprocurement) (Non procurement) supplemented by 2 CFR part 417 (Nonprocurement Debarment and Suspension) if it applies. The section heading is “What information must I provide before entering into a covered transaction with a Federal agency?” located at 2 CFR 180.335. It is part of OMB's Guidance for Grants and Agreements concerning Governmentwide Debarment and Suspension. Applicants are not eligible if they have been debarred or suspended or otherwise excluded from, or ineligible for, participation in Federal assistance programs under 2 CFR parts 180 and 417.

2. Non-Eligible Applicants. Applications will not be considered for funding if they do not provide enough information to determine eligibility, are not suitable for evaluation, or are missing required elements as stated in this notice. All applications submitted must meet the eligibility in this notice and demonstrate that the loans will be made to ultimate recipients who meet the eligibility criteria in 7 CFR 3550.53 https://www.ecfr.gov/current/title-7/subtitle-B/chapter-XXXV/part-3550/subpart-B/section-3550.53.

3. Cost Sharing or Matching. An NCDFI that receives a loan under this section shall be required to match not less than 20 percent of the amount received. The NCDFI must demonstrate ability to meet the required match, or the application will be deemed ineligible. Matching funds from other Federal programs are allowed, unless the statutory requirements of the program from which the matching funds are being committed state that program funds cannot be used as matching funds.

(a) Matching funds must be in the form of cash or confirmed funding commitments. Matching funds must also be committed for a period of not less than the loan disbursement period of 3 years.

(b) In-kind contributions such as salaries, donated time and effort, real and nonexpendable personal property, and goods and services cannot be used as matching funds.

(c) The NCDFI is responsible for demonstrating that matching funds are available and committed. Matching funds may be provided by the NCDFI or a third party.

4. Discretionary Points. None.

5. Other. For FY 2023 applications the following additional eligibility requirements apply, and the application must address the applicant's proposal ensuring compliance with all program delivery requirements (available at the website: https://www.ecfr.gov/current/title-7/subtitle-B/chapter-XXXV/part-3550/subpart-B/section-3550.53):

(a) The NCDFI must have been legally organized for a minimum of three years and have at least one year prior experience working with residential mortgage lending. Applicants that do not meet this requirement can provide documentation regarding other related experience (e.g., staff expertise, other loan products, homeownership training, counseling and assistance, etc.) to justify that they have adequate experience to effectively and efficiently manage and repay a loan through this demonstration program;

(b) Proposals must be structured to utilize the funds, by making loans to eligible ultimate recipients, within 3 years from the date of award;

(c) A six percent reserve for bad debt or Loan Loss Reserve (LLR) will be required;

(d) An NCDFI proposing to serve ultimate recipients from one or more federally recognized Tribes must include letters of support with its application from the Tribe(s) and/or Tribally Designated Housing Entities/Tribal Housing Authorities/Tribal Housing program(s) that serve those same ultimate recipients and/or a board resolution;

(e) Loan funds may not be used for payment of the NCDFI's administrative costs or expenses.

(f) Loans to ultimate recipients.

i. NCDFI Relending Demonstration Program loan funds must be used to provide direct loans made to eligible ultimate recipients in accordance with 7 CFR 3550. Loans from the NCDFI to the ultimate recipient using the NCDFI Relending Demonstration Program fund must be used to buy, build, rehabilitate, improve, or relocate an eligible dwelling in accordance with 7 CFR 3550.52(a) on Tribal Land, for use by the borrower as a permanent residence. The following regulatory requirements apply to loans made to ultimate recipients:

a. Eligible costs in accordance with 7 CFR 3550.52(d).

b. Restrictions on use of loan funds in accordance with 7 CFR 3550.52(e).

c. Ultimate recipient eligibility requirements in accordance with 7 CFR 3550.53.

d. Calculation of Ultimate recipients' income and assets in accordance with 7 CFR 3550.54.

e. Site requirements in accordance with 7 CFR 3550.56; site must also be located on Tribal Lands.

f. Dwelling requirement in accordance with 7 CFR 3550.57.

g. Ownership requirements in accordance with 7 CFR 3550.58.

h. Security requirements in accordance with 7 CFR 3550.59, except that NCDFIs need not use Agency closing forms, and security will be vested in the NCDFI and not to the agency.

For more information on how ultimate recipient loans can be processed, the Section 502 program Handbook-1-3550 can be found online at: https://rd.usdsa.gov/resources/directives/handbooks.

(ii) Requests to make loans to ultimate recipients. Prior Agency concurrence is required when an NCDFI requests a disbursement of the NCDFI Relending Demonstration Program loan funds to make a loan to an ultimate recipient. The request for Agency concurrence in approval of a proposed loan to an ultimate recipient must include:

(a) A certification by the NCDFI that:

i. The proposed ultimate recipient is eligible for the loan;

ii. The proposed loan is for eligible purposes;

iii. The proposed loan complies with all applicable statutes and regulations;

(b) Copies of sufficient material from the ultimate recipient's application and the NCDFI's related files, to allow the Agency to determine the:

i. Name and address of the ultimate recipient;

ii. Loan purposes;

iii. Interest rate and term; and

iv. Confirmation of the NCDFI matching funds.

(g) NCDFI Relending Program Loan Servicing Requirements. NCDFI Relending Demonstration Program servicing requirements by the Agency are specified in this notice as follows:

(i) Quarterly reports are due 30 days after the end of each quarter as described below;

1. Reports will be required quarterly during the first year after loan closing and, if all loan funds are not utilized during the first year, quarterly reports will be continued until at least 90 percent of the Agency loan funds have been advanced to ultimate recipients. Thereafter, reports will be required semiannually. Also, the Agency may require quarterly reports if the NCDFI becomes delinquent in repayment of its loan or otherwise fails to fully comply with the provisions of its work plan or loan agreement, or the Agency determines that the NCDFI Relending Demonstration Program fund is not adequately protected by the current sound worth and paying capacity of the ultimate recipients.

2. These reports shall contain information on the NCDFI Relending Demonstration Program loan fund, and when other funds are included, the NCDFI Relending Demonstration Program portion shall be segregated from the others.

3. The reports will be collected on a form provided by the Agency and must include information on the NCDFI Relending Demonstration Program loan fund, NCDFI Relending Demonstration Program lending activity, income and expenses, financial condition and a summary of names and characteristics of the ultimate recipients the NCDFI has financed. When other funds are included in the reports, the NCDFI Relending Demonstration Program portion shall be segregated from the others.

(h) Loan Closing Information

1. The selected NCDFI will be issued a Letter of Conditions and be required to Complete Form RD 1942-46, “Letter of Intent to Meet Conditions”, as applicable. Conditions may include but are not limited to completion of:

a. Form SF 3881, “ACH Vendor Payment Enrollment Form”

b. Form SF 270, “Request for Advance or Reimbursement”

c. HUD Form 935.2B, “Affirmative Fair Housing Marketing Plan—Single Family Housing”

d. Form RD 400-8, “Compliance Review”

2. The selected NCDFI will execute Form RD 1940-1, “Request for Obligation of Funds” prior to obligation.

3. The attorney, staff, or qualified professional for the NCDFI will work with USDA to prepare all necessary documents to close and secure the loan subject to USDA review and concurrence.

4. The NCDFI will be required to execute a Loan Agreement, Security Agreement, Promissory Note, and Deposit Agreement at closing. These items are available for review at the website: https://www.rd.usda.gov/programs-services/single-family-housing-programs/native-community-development-financial-institution-relending-demonstration-program.

5. A Financing Statement under the Uniform Commercial Code will be filed as security for the NCDFI Relending Demonstration Program loan funds account.

All applications submitted must meet the eligibility in this notice and demonstrate the loans will be made to ultimate recipients who meet the eligibility criteria in 7 CFR 3550.53 (https://www.ecfr.gov/current/title-7/subtitle-B/chapter-XXXV/part-3550/subpart-B/section-3550.53).

D. Application and Submission Information

1. Address to Request Application Package. Entities wishing to apply for assistance may acquire the application documents described in this notice from the NCDFI Relending Demonstration Program website: https://www.rd.usda.gov/programs-services/single-family-housing-programs/native-community-development-financial-institution-relending-demonstration-program.

Applicants may also request paper application packages from the Rural Development National Office by emailing brian.hudson@usda.gov.

2. Content and Form of Application Submission. If the applicant is ineligible or the application is incomplete, the Agency will inform the applicant in writing of the decision, reasons therefore, and its appeal rights and no further evaluation of the application will occur.

The Agency requires the following information to make an eligibility determination:

(i) Standard Form (SF)-424, “Application for Federal Assistance”.

(ii) A written work plan to demonstrate the NCDFI's ability to meet the objectives of this notice. The plan must, at a minimum:

a. Document the NCDFI's ability to administer NCDFI Relending Demonstration Program funds in accordance with the provisions of this notice. To adequately demonstrate the ability to administer the program, the NCDFI must provide a complete listing of all personnel responsible for administering this program along with a statement of their qualifications and experience. The personnel may be board and/or loan committee members or employees of the NDCFI's organization or contract personnel hired for this purpose. If the personnel are to be contracted for, the contract between the NCDFI and the entity providing such service will be submitted for Agency review, and the terms of the contract and its duration must be sufficient to adequately service the Agency loan through to its maturity date. If the Agency determines the personnel lack the necessary expertise to administer the program, the loan request will not be approved;

b. Document the NCDFI's ability to commit financial resources under the control of the NCDFI to the establishment of an NCDFI Relending Demonstration Program. This should include a statement of the sources of non-Agency funds for administration of the NCDFI's operations and financial assistance for projects;

c. Demonstrate a need for loan funds. As a minimum, the NCDFI should identify a sufficient number of proposed and known ultimate recipients to justify Agency funding of its loan request, or include well developed targeting criteria for ultimate recipients consistent with the NCDFI's mission and strategy for the NCDFI Relending Demonstration Program, along with supporting statistical or narrative evidence that such prospective recipients exist in sufficient numbers to justify Agency funding of the loan request;

d. Include a list of proposed fees and other charges it will assess the ultimate recipients, if applicable;

e. Include the NCDFI's plan (specific loan purposes) for relending the loan funds. The plan must be of sufficient detail to provide the Agency with a complete understanding of what the NCDFI will accomplish by lending the funds to the ultimate recipient and the complete mechanics of how the funds will get from the NCDFI to the ultimate recipient. The service area, eligibility criteria, loan purposes, fees, rates, terms, collateral requirements, limits, priorities, application process, method of disposition of the funds to the ultimate recipient, monitoring of the ultimate recipient's accomplishments, and reporting requirements by the ultimate recipient's management are items that must be addressed by the NCDFI's relending plan;

f. Provide a set of goals, strategies, and anticipated outcomes for the NCDFI's program. Outcomes should be expressed in quantitative or observable terms such as the number of homeowners assisted, and the number of homes financed, and should relate to the purpose of NCDFI Relending Demonstration Program; and

g. Provide specific information as to whether and how the NCDFI will ensure that technical assistance is made available to ultimate recipients and potential ultimate recipients. Describe the qualifications of the technical assistance providers, the nature of technical assistance that will be available, and expected and committed sources of funding for technical assistance. If other than the NCDFI itself, describe the organizations providing such assistance and the arrangements between such organizations and the NCDFI.

(iii) Environmental information on a form provided by the Agency (Form RD 1970-B, Exhibit D) for all projects positively identified as proposed ultimate recipient loans that are categorical exclusion actions under 7 CFR part 1970 subpart B.

(iv) A pro forma balance sheet at start-up and projected balance sheets for at least 3 additional years; financial statements for the last 3 years, or from inception of the operations of the NCDFI if less than 3 years; and projected cash flow and earnings statements for at least 4 years supported by a list of assumptions showing the basis for the projections. Principal repayment on the NCDFI Relending Demonstration Program loan will not be scheduled during the first 3 years, thus the projections for the NCDFI Relending Demonstration Program fund must extend to include a year with a full annual installment on the NCDFI Relending Demonstration Program loan.

(v) Statement of compliance with 2 CFR 200 and last financial audit report.

(vi) An agreement on a form provided by the Agency (Form RD 400-4, “Assurance Agreement,” and Form RD 400-1, “Equal Opportunity Agreement”) assuring compliance with title VI of the Civil Rights Act of 1964.

(vii) Complete organizational documents, including documentation of NCDFI certification status, Certificate of Good Standing, By-laws and Articles of Incorporation, and evidence of authority to conduct the proposed activities.

(viii) A form provided by the Agency (Form RD 1910-11, “Applicant Certification Federal Collection Policies for Consumer or Commercial Debts”) in which the applicant certifies its understanding of the Federal collection policies for consumer or commercial debts.

(ix) A statement on a form provided by the Agency (Exhibit A-1 of RD Instruction 1940-Q) regarding lobbying.

3. System for Award Management and Unique Entity Identifier.

(a) At the time of application, each applicant must have an active registration in the System for Award Management (SAM) before submitting its application in accordance with 2 CFR part 25. In order to register in SAM, entities will be required to create a Unique Entity Identifier (UEI). Instructions for obtaining the UEI are available at https://sam.gov/content/entity-registration.

(b) Applicants must maintain an active SAM registration, with current, accurate and complete information, at all times during which it has an active Federal award or an application under consideration by a Federal awarding agency.

(c) Applicants must ensure they complete the Financial Assistance General Certifications and Representations in SAM.

(d) Applicants must provide a valid UEI in their application, unless determined exempt under 2 CFR 25.110.

(e) The Agency will not make an award until the applicant has complied with all SAM requirements including providing the UEI. If an applicant has not fully complied with the requirements by the time the Agency is ready to make an award, the Agency may determine that the applicant is not qualified to receive a Federal award and use that determination as a basis for making a Federal award to another applicant.

4. Submission Dates and Times. The Agency will not solicit or consider new scoring or eligibility information that is submitted after the application deadline. RHS reserves the right to ask applicants for clarifying information and additional verification of assertions in the submitted application. Completed applications must be submitted using one of the following methods:

• Paper submissions: The Agency must receive a paper application by 4:30 p.m. Pacific Time (PT), July 17, 2023. Application can be mailed or delivered to: USDA Rural Washington State Office, Attention: Andria Hively, 1835 Black Lake Blvd. SW, Olympia, WA 98512.

• Electronic submissions: Electronic applications must be submitted via email to brian.hudson@usda.gov by 11:59 p.m. Eastern Time (ET) on July 17, 2023.

The application dates and times are firm. The Agency will not consider any application received after the deadline.

5. Intergovernmental Review. Not applicable.

6. Funding Restrictions. Expenses incurred in developing applications will be at the applicant's cost.

7. Other Submission Requirements. None.

(a) Other Federal Statutes. The applicant must certify to compliance with other Federal Statutes and regulations by completing the Financial Assistance General Certification and Representations in SAM, including, but not limited to the following:

(i) 7 CFR part 15, subpart A—Nondiscrimination in Federally Assisted Programs of the Department of Agriculture—Effectuation of Title VI of the Civil Rights Act of 1964. Civil Rights compliance includes, but is not limited to the following:

(A) Collect and maintain data provided by ultimate recipients on race, sex, and national origin and ensure that ultimate recipients collect and maintain this data.

(B) Race and ethnicity data will be collected in accordance with Office of Management and Budget (OMB) Federal Register notice, “Revisions to the Standards for the Classification of Federal Data on Race and Ethnicity” (published October 30, 1997, at 62 FR 58782); sex data will be collected in accordance with title IX of the Education Amendments of 1972. These items should not be submitted with the application but should be available upon request by RD.

(ii) The applicant and the ultimate recipient must comply with title VI of the Civil Rights Act of 1964, title IX of the Education Amendments of 1972, the Americans with Disabilities Act (ADA), Section 504 of the Rehabilitation Act of 1973, the Age Discrimination Act of 1975, Executive Order 12250, and 7 CFR part 1901, subpart E.

(iii) 2 CFR parts 200 and 400 (Uniform Administrative Requirements, Cost Principles and Audit Requirements for Federal Awards), or any successor regulation.

(iv) Executive Order 13166, “Improving Access to Services for Persons with Limited English Proficiency.” For information on limited English proficiency and agency-specific guidance, go to https://www.lep.gov/.

(v) Federal Obligation Certification on Delinquent Debt.

(b) Risk Review: RD may request additional documentation from selected applicants in order to evaluate the financial, management, and performance risk posed by awardees as required by 2 CFR 200.206. Based on this risk review, RD may apply special conditions that correspond to the degree of risk assessed.

E. Application Review Information

1. Criteria. All eligible and complete applications will be evaluated and scored based on the selection criteria contained in this notice. Failure to address any of the application criteria by the application deadline will result in the application being determined ineligible, and the application will not be considered for funding.

2. Review and Selection Process. The Agency reserves the right to offer the applicant less than the loan funding requested. Rural Development National Office will utilize the following threshold project selection criteria for applicants in accordance with this notice.

(a) Providing a financially feasible program for single family residential mortgage lending, which will result in affordable housing for very low- and low-income persons.

(b) Serving Tribal lands in an eligible rural area with affordable housing for very low- and low-income persons.

(c) Being an eligible applicant as defined in this notice.

(e) Submitting a complete application as outlined in this notice.

3. Scoring. For applicants meeting all the requirements listed above, the Rural Development National Office will use weighted criteria in accordance with this notice as selection for the loan recipients. Each application and its accompanying statement of activities will be evaluated and, based solely on the information contained in the application, the applicant's proposal will be numerically rated on each criterion within the range provided. The highest-ranking applicant(s) will be selected using the following criteria:

a. Years experience in residential mortgage lending:

(i) Less than one: 0 points

(ii) 1-2: 1 point

(iii) 3: 2 points

(iv) 4-5: 3 points

(v) More than 5 years: 4 points

b. Years experience in servicing residential mortgage loans:

(i) Less than one: 0 points

(ii) 1-2: 1 point

(iii) 3: 2 points

(iv) 4-5: 3 points

(v) More than 5 years: 4 points

c. Years experience managing a loan fund:

(i) Less than one: 0 points

(ii) 1-2: 1 point

(iii) 3: 2 points

(iv) 4-5: 3 points

(v) More than 5 years: 4 points

d. Years experience managing federal funds:

(i) Less than one: 0 points

(ii) 1-2: 1 point

(iii) 3: 2 points

(iv) 4-5: 3 points

(v) More than 5 years: 4 points

e. Matching funding:

(i) Less than 20%: Not Eligible

(ii) 20%-40%: 1 point

(iii) More than 40%-60%: 2 points

(iv) More than 60%-80%: 3 points

(v) More than 80%-100%: 4 points

4. Anticipated Announcement and Federal Award Dates. Awards will be made by September 15, 2023.

F. Federal Award Administration Information

1. Federal Award Notices. Successful applicants will receive notification for funding from the USDA Rural Development National Office. Applicants must comply with all applicable statutes and regulations before the loan award will be obligated. The Agency will notify, in writing, applicants that have been selected for funding. At the time of notification, the Agency will advise the applicant what further information and documentation, if any, is required along with a timeline for submitting the additional information. If at any point the Agency determines it is unable to select the application for funding, the applicant will be informed in writing. Such notification will include the reasons the applicant was not selected. The Agency will advise applicants whose applications did not meet eligibility and/or selection criteria of their review rights or appeal rights in accordance with 7 CFR 3550.4 and/or 7 CFR part 11.

2. Administrative and National Policy Requirements. The loan recipient must include the required nondiscrimination statements in any of their advertisements and brochures. The loan recipient will be required to collect and maintain data provided by the ultimate recipients on race, sex, and national origin and ensure recipients collect and maintain this data. Race and ethnicity data will be collected in accordance with OMB Federal Register notice, “Revisions to the Standards for the Classification of Federal Data on Race and Ethnicity,” (62 FR 58782), October 30, 1997. Data on recipients' sex will be collected in accordance with title IX of the Education Amendments of 1972. These items should not be submitted with the application but should be available upon request by the Agency.

3. Reporting. Performance reporting, including applicable forms, narratives, and other documentation, are to be completed and submitted in accordance with the provisions of this notice and the loan documents referenced in the `other' section of this notice. Further, all borrowers must submit an audit or financial information pursuant to 2 CFR part 200 covering the defined period of performance as outlined in this notice and the Agreements referenced in the `other' section of this notice.

G. Federal Awarding Agency Contact(s)

For general questions about this announcement, please contact Brian Hudson, Finance and Loan Analyst, Single Family Housing Direct Division, Special Programs and New Initiatives Branch at (608) 697-7725 (voice) (this is not a toll-free number) or brian.hudson@usda.gov. Applicants wanting to apply for assistance may download the application documents and requirements as stated in this notice from the NCDFI Relending Demonstration Program website: https://www.rd.usda.gov/programs-services/single-family-housing-programs/native-community-development-financial-institution-relending-demonstration-program.

H. Other Information

1. Paperwork Reduction Act. RHS has concluded that the reporting requirements contained in this NOFA will involve less than 10 persons and does not require an approval under the provisions of the Act. In accordance with the Paperwork Reduction Act of 1995, (44 U.S.C. 3501 et seq.), OMB must approve all collection of information as a requirement for “answers to * * * identical reporting or recordkeeping requirements imposed on ten or more persons * * *.” (44 U.S.C. 3502(3)(A).)

2. National Environmental Policy Act. All recipients under this notice are subject to the requirements of 7 CFR part 1970 available at the website: https://rd.usda.gov/resources/environmental-studies/environmental-guidance and must comply in accordance with 7 CFR 3550.5.

3. Federal Funding Accountability and Transparency Act. All applicants, in accordance with 2 CFR part 25, must be registered in SAM and have a UEI number as stated in Section D.3, of this notice. All recipients of Federal financial assistance are required to report information about first-tier sub-awards and executive total compensation in accordance with 2 CFR part 170.

4. Civil Rights Act. All loans made under this notice are subject to title VI of the Civil Rights Act of 1964 as required by the USDA (7 CFR part 15, subpart A—Nondiscrimination in Federally-Assisted Programs of the Department of Agriculture—Effectuation of Title VI of the Civil Rights Act of 1964) and section 504 of the Rehabilitation Act of 1973, title VIII of the Civil Rights Act of 1968, title IX, Executive Order 13166 (Limited English Proficiency), Executive Order 11246, and the Equal Credit Opportunity Act of 1974.

5. Non-Discrimination Statement. In accordance with Federal civil rights law and USDA civil rights regulations and policies, USDA, its Mission Areas, agencies, staff offices, employees and institutions participating in or administering USDA programs are prohibited from discrimination based on race, color, national origin, religion, sex, gender identity, (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the 711 Relay Service.

To file a program discrimination complaint, the complainant should complete the USDA Program Discrimination Complaint Form AD-3027 (PDF), which can be obtained online at: https://www.usda.gov/oascr/how-to-file-a-program-discrimination-complaint, from any USDA office, by calling (866) 632-9992 or by writing a letter addressed to USDA, and at any USDA office or write a letter addressed to USDA. The letter must contain the complainant's name, address, telephone number and a written description of the alleged discriminatory action in sufficient detail to inform the Assistant Secretary for Civil Rights (ASCR) about the nature and date of the alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Joaquin Altoro,
Administrator, Rural Housing Service, USDA Rural Development.

[FR Doc. 2023-10605 Filed 5-17-23; 8:45 am]

BILLING CODE 3410-XV-P